NUCLEAR REGULATORY COMMISSION

[Docket No. 70-143-MLA, ASLBP No. 02-803-04-MLA]

Nuclear Fuel Services, Inc.; Designation of Presiding Officer

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: Nuclear Fuel Services, Inc., Erwin, Tennessee, (Material License Amendment).

The hearing will be conducted pursuant to 10 CFR part 2, subpart L, of the Commission's Regulations, “Informal Hearing Procedures for Adjudications in Materials and Operator Licensing Proceedings.” This proceeding concerns requests for hearing submitted (1) on August 6, 2002 by David Wallack; (2) on August 7, 2002, by Trudy L. Wallack; (3) on August 8, 2002, by the Oak Ridge Environmental Peace Alliance, Tennessee Environmental Council, the State of Franklin Group/Sierra Club, and Friends of the Nolichuckey River Valley, Inc.; (4) on August 8, 2002, by the Blue Ridge Environmental Defense League, Inc.; and (5) on August 8, 2002, by fifteen Northeast Tennessee residents. The requests were filed in response to a notice of consideration by the NRC staff of a proposed request from Nuclear Fuel Services, Inc., (NFS) to amend its special nuclear material license to authorize construction and operation of a Low-Enriched Uranyl Nitrate Storage Building at the NFS site in Erwin, Tennessee, and to increase the U²³⁵ possession limit. The notice of environmental assessment performed by the staff, finding of no significant impact, and opportunity for a hearing were published in the Federal Register on July 9, 2002 (67 FR 45,555).

The Presiding Officer in this proceeding is Administrative Judge Alan S. Rosenthal. Pursuant to the provisions of 10 CFR 2.722, 2.1209, Administrative Judge Richard F. Cole has been appointed to assist the Presiding Officer in taking evidence and in preparing a suitable record for review.

All correspondence, documents, and other materials shall be filed with Judges Rosenthal and Cole in accordance with 10 CFR 2.1203. Their addresses are:

Administrative Judge Alan S. Rosenthal, Presiding Officer, Atomic Safety and Licensing Board Panel, U.S. Nuclear Regulatory Commission, Washington, DC 20555-0001;

Administrative Judge Richard F. Cole, Special Assistant, Atomic Safety and Licensing Board Panel, U.S. Nuclear Regulatory Commission, Washington, DC 20555-0001.

Issued at Rockville, Maryland, this third day of September, 2002.
G. Paul Bollwerk III,
Chief Administrative Judge, Atomic Safety and Licensing Board Panel.

[FR Doc. 02-22788 Filed 9-6-02; 8:45 am]

BILLING CODE 7590-01-P